DEPARTMENT OF TRANSPORTATION

Federal Aviation Administration

14 CFR Part 39

[Docket No. FAA-2006-23734; Directorate Identifier 2005-NM-174-AD; Amendment 39-14827; AD 2006-23-15]

RIN 2120-AA64

Airworthiness Directives; Boeing Model 757 Airplanes

AGENCY: Federal Aviation Administration (FAA), Department of Transportation (DOT).

ACTION: Final rule.

SUMMARY: The FAA is adopting a new airworthiness directive (AD) for certain Boeing Model 757 airplanes. This AD requires installing a control wheel damper assembly at the first officer's drum bracket assembly and aileron quadrant beneath the flight deck floor in section 41; doing a functional test and adjustment of the new installation; and doing related investigative/corrective actions if necessary. For certain airplanes, this AD also requires doing an additional adjustment test of the re-located control wheel position sensor, and an operational test of the flight data recorder and the digital flight data acquisition unit. This AD also requires installing vortex generators (vortilons) on the leading edge of the outboard main flap on certain airplanes. This AD results from several reports that flightcrews experienced unintended roll oscillations during final approach, just before landing. We are issuing this AD to prevent unintended roll oscillations near touchdown, which could result in loss of directional control of the airplane, and consequent airplane damage and/or injury to flightcrew and passengers.

DATES: This AD becomes effective December 21, 2006.

The Director of the Federal Register approved the incorporation by reference of certain publications listed in the AD as of December 21, 2006.

ADDRESSES: You may examine the AD docket on the Internet at http://dms.dot.gov or in person at the Docket Management Facility, U.S. Department of Transportation, 400 Seventh Street, SW., Nassif Building, Room PL-401, Washington, DC.

Contact Boeing Commercial Airplanes, P.O. Box 3707, Seattle, Washington 98124-2207, for service information identified in this AD.

FOR FURTHER INFORMATION CONTACT: John Neff, Aerospace Engineer, Flight Test Branch, ANM-160S, FAA, Seattle Aircraft Certification Office, 1601 Lind Avenue, SW., Renton, Washington 98057-3356; telephone (425) 917-6521; fax (425) 917-6590.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to certain Boeing Model 757 airplanes. That NPRM was published in the Federal Register on January 31, 2006 (71 FR 5021). That NPRM proposed to require installing a control wheel damper assembly at the first officer's drum bracket assembly and aileron quadrant beneath the flight deck floor in section 41; doing a functional test and adjustment of the new installation; and doing related investigative/corrective actions if necessary. For certain airplanes, that NPRM also proposed to require doing an additional adjustment test of the re-located control wheel position sensor, and an operational test of the flight data recorder and the digital flight data acquisition unit. That NPRM also proposed to require installing vortex generators (vortilons) on the leading edge of the outboard main flap on certain airplanes.

Comments

We provided the public the opportunity to participate in the development of this AD. We have considered the comments received.

Support for the NPRM

American Airlines supports the NPRM.

Requests To Change Compliance Time

Air Line Pilots Association (ALPA) supports the intent of the NPRM, but feels that the 24-month compliance time should be reduced. ALPA states that, given the serious consequences of unintended roll oscillations near the ground, a shorter compliance time should be imposed.

Air Transport Association (ATA), on behalf of US Airways and United Airlines, requests that we lengthen the compliance time from 24 months to the later of 36 months or the next heavy maintenance check. ATA states that the NPRM would impose more work and elapsed hours than stated in the preamble of the NPRM and would require operational tests after certain modifications, and that the accomplishment would be constrained by long production lead times for vortex generators. Further, ATA states that the manufacturer's service instructions recommend compliance within 36 months. US Airways comments that a longer compliance time is appropriate because of the long lead time for getting the vortex generator installation kits (40 weeks, as stated in Boeing Alert Service Bulletin 757-57A0058, Revision 1, dated January 10, 2002).

We disagree. In developing the compliance time for this AD action, we considered not only the safety implications of the identified unsafe condition, but also the average utilization rate of the affected fleet, the practical aspects of an orderly modification of the fleet, the availability of required parts, and the time necessary for the rulemaking process. After the release of Boeing Alert Service Bulletin 757-57A0058, Revision 1 (which was referenced in the NPRM as an appropriate source of service information for accomplishing certain required actions), we came to an agreement with Boeing that a compliance time of 24 months was appropriate. When we notified Boeing of this NPRM, Boeing increased the procurement of the vortex generator installation kits to ensure an adequate supply to support the proposed compliance time. Therefore, we have determined that the compliance time, as proposed, represents the maximum interval of time allowable for the affected airplanes to continue to safely operate before the installations are done. In addition, since maintenance schedules vary among operators, we could not assure that the airplanes would be modified during that maximum interval if we changed the compliance time to incorporate the heavy maintenance visit. We have not changed the AD in this regard.

Request To Include Part Number (P/N) Change for Vortex Generators

America West states that the NPRM does not include a change in P/N after installation of vortex generators in accordance with paragraph (f)(2) of the NPRM. America West points out that this could result in the installation of pre-modification outboard main flaps on post-modification airplanes. America West recommends that Boeing revise Boeing Alert Service Bulletin 757-57A0058, Revision 1, to include a change in P/N; and that the NPRM be revised to prohibit installation of pre-modification flaps on an airplane after it has been brought into compliance with the AD.

We disagree. Determining whether or not an airplane is in compliance with the vortex generator installation can be confirmed easily by visual inspection, on or off the wing. Therefore, we determined that renumbering the flap assembly is an unnecessary burden to the manufacturer and to the operators of the affected airplanes, as the part marking, drawings, and other documentation would have to be revised as well. Boeing agrees that the renumbering is unnecessary. In addition, section 39.7 of the Federal Aviation Regulations (14 CFR 39.7) prohibits operation of an aircraft that is not in compliance with an AD. Therefore, it is not necessary to include the specified prohibition in the AD. We have not changed the AD in this regard.

Request To Clarify Differences Paragraph

Boeing and UPS both request that we clarify the third paragraph in the section of the NPRM titled “Differences Between the Proposed AD and the Service Bulletins.” That paragraph states:

“Although Boeing Alert Service Bulletin 757-27A0146 and Boeing Alert Service Bulletin 757-27A0147 specify that operators may contact the manufacturer if a just-installed (new) wheel damper does not function properly, this proposed AD would require operators to correct that condition according to a method approved by the FAA.”

Boeing also states that clarification is needed because customers have asked if Boeing is about to revise the existing service bulletins referenced in the NPRM to incorporate possible alternative modifications. Other customers have asked Boeing if the FAA will be adding another requirement to the AD that is not currently in the NPRM regarding the replacement of a damper assembly.

UPS asks that, if possible, we provide additional information on the approved method that we are considering to correct any problems with the newly installed damper. UPS suggests that, if we are considering a requirement to install a new damper and/or flight tests to certify the installation, we include these specifics and have a new comment period after the specific actions have been defined.

We agree that the paragraph Boeing quoted needs clarification. However, since that section of the preamble does not reappear in the final rule, we have instead changed the following to provide clarification:

• We have changed the “Interim Action” section of the AD to specify that no additional fixes have been identified; however, as investigation into the unsafe condition continues, additional fixes may be deemed necessary in the future.

• We have revised paragraph (f)(1) of the AD to specify that, if a just-installed (new) wheel damper does not function properly, operators should correct the condition in accordance with the procedures specified in paragraph (i) of the AD, Alternative Methods of Compliance (AMOCs). An AMOC for this condition could include removing the defective part and returning the airplane to the original configuration, or securing the installation in a method acceptable to us until the affected part can be replaced or repaired within the compliance time of the AD.

Request To Revise Parts Installation Paragraph

Boeing requests that we change paragraph (g), “Parts Installation,” of the NPRM to allow operators that have not yet performed the new damper installation to replace any part for the existing control wheel position installation during the initial 24-month compliance time. Boeing explains that if an operator needs to replace an existing control wheel position sensor installation before the service bulletin kit can be delivered, they would appear to be out of compliance in just repairing the airplane to the as-delivered condition. Boeing suggests revising paragraph (g) to include these words, “After the incorporation of the wheel damper assembly to comply with this AD * * *.”

We agree that operators may continue to install the existing affected parts and assemblies until the airplane is modified to bring it into compliance with this AD. Therefore, we find that the Parts Installation paragraph is not necessary, and we have removed that paragraph and reidentified the following paragraphs accordingly.

Request To Include Cost for “Lost Time”

United Airlines states that Boeing Alert Service Bulletins 757-27A0146, dated October 14, 2004; and 757-57A0058, Revision 1, dated January 10, 2002, state that no “lost time” work hours are included in the cost estimates in the NPRM. United Airlines states that, if the tasks specified in the service bulletins are accomplished during non-routine maintenance, then lost-time hours must be included in the cost estimates, and unscheduled downtime must also be considered in those cost estimates. If lost time is included, United Airlines states that the total work hours would increase to approximately 31 total work hours and 19 elapsed-time hours. In addition, United Airlines states that unscheduled downtime for accomplishing the required tasks is estimated to cost $35,000 per day. United Airlines estimates the additional cost for accomplishing both service bulletins during an unscheduled maintenance visit to be $36,000 per day. Therefore, United Airlines requests that the cost estimates be updated to reflect the work accomplished for both service bulletins.

We disagree. The cost information below describes only the direct costs of the specific actions required by the AD. The manufacturer provided us with the number of work hours necessary to do the required actions based on the best data available. This number represents the time necessary to perform only the actions actually required by the AD. We recognize that, in doing the actions required by an AD, operators may incur incidental costs in addition to the direct costs. The cost analysis in AD rulemaking actions, however, typically does not include incidental costs such as the time required to gain access and close up, time necessary for planning, or time necessitated by other administrative actions. Those incidental costs, which may vary significantly among operators, are almost impossible to calculate. We have not changed the AD in this regard.

Conclusion

We have carefully reviewed the available data, including the comments received, and determined that air safety and the public interest require adopting the AD with the changes described previously. We have determined that these changes will neither increase the economic burden on any operator nor increase the scope of the AD.

Interim Action

We consider this AD interim action. The manufacturer is currently investigating an additional modification that may further reduce or eliminate the unsafe condition identified in this AD. Once this modification is developed, approved, and available, we may consider additional rulemaking. Should any additional modification be required as a result of further rulemaking activities, that modification would be in addition to, not a replacement for, the modifications required by this AD.

Costs of Compliance

There are about 1,036 airplanes of the affected design in the worldwide fleet and about 629 U.S.-registered airplanes. The following table provides the estimated costs for U.S. operators to comply with this AD. Not all of the required actions must be done on all U.S.-registered airplanes.

Estimated Costs
Action | Work hours | Average labor rate per hour | Parts | Cost per airplane | Number of U.S.- registered airplanes | Fleet cost
Install control wheel damper assembly, and do functional test (Model 757-200, -200PF, and -200CB series airplanes) | 9 to 11 | $65 | $7,640 to $10,550 | $8,225 to $11,265 | 578 | $4,754,050 to $6,511,170.
Install control wheel damper assembly, and do functional test (Model 757-300 series airplanes) | 15 | 65 | $10,550 | $11,525 | 51 | $587,775.
Install vortex generators (Model 757-200, -200PF, and -200CB series airplanes) | 10 | 65 | $3,336 | $3,986 | 527 | $2,100,622.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-23-15 Boeing: Amendment 39-14827. Docket No. FAA-2006-23734; Directorate Identifier 2005-NM-174-AD.

Effective Date

(a) This AD becomes effective December 21, 2006.

Affected ADs

(b) None.

Applicability

(c) This AD applies to Model 757-200, -200PF, -200CB, and -300 series airplanes, certificated in any category; as identified in the applicable service bulletin or bulletins in Table 1 of this AD.

Table 1.—Boeing Service Bulletins
Boeing Alert Service Bulletin | Revision | Date | Model
757-27A0146 | Original | October 14, 2004 | 757-200, -200PF, and -200CB series airplanes.
757-27A0147 | Original | October 14, 2004 | 757-300 series airplanes.
757-57A0058 | 1 | January 10, 2002 | 757-200, -200PF, and -200CB series airplanes.

Unsafe Condition

(d) This AD results from several reports that flightcrews experienced unintended roll oscillations during final approach, just before landing. We are issuing this AD to prevent unintended roll oscillations near touchdown, which could result in loss of directional control of the airplane, and consequent airplane damage and/or injury to flightcrew and passengers.

Compliance

(e) You are responsible for having the actions required by this AD performed within the compliance times specified, unless the actions have already been done.

Installations

(f) Within 24 months after the effective date of this AD, do the actions in paragraphs (f)(1) and (f)(2) of this AD, as applicable.

(1) For all airplanes: Install a control wheel damper assembly at the first officer's drum bracket assembly and aileron quadrant beneath the flight deck floor in section 41; and do all applicable functional and operational tests and adjustments of the new installation, and all applicable related investigative/corrective actions before further flight after the installation. Do all actions in accordance with the Accomplishment Instructions of Boeing Alert Service Bulletin 757-27A0146, dated October 14, 2004 (for Model 757-200, -200PF, and -200CB series airplanes); or Boeing Alert Service Bulletin 757-27A0147, dated October 14, 2004 (for Model 757-300 series airplanes). Where Boeing Alert Service Bulletin 757-27A0146 specifies to contact Boeing if a just-installed (new) wheel damper does not function properly, correct that condition in accordance with the procedures in paragraph (i) of this AD.

(2) For Model 757-200, -200PF, and -200CB series airplanes: Install vortex generators (vortilons) on the leading edge of the outboard main flap in accordance with the Accomplishment Instructions of Boeing Alert Service Bulletin 757-57A0058, Revision 1, dated January 10, 2002.

Actions Accomplished in Accordance With Previous Revision of Service Bulletin

(g) Actions done before the effective date of this AD in accordance with Boeing Special Attention Service Bulletin 757-57-0058, dated March 9, 2000, are acceptable for compliance with the actions in paragraph (f)(2) of this AD.

No Reporting Required

(h) Although the Accomplishment Instructions of Boeing Alert Service Bulletin 757-27A0146 and Boeing Alert Service Bulletin 757-27A0147, both dated October 14, 2004, describe procedures for submitting a sheet recording accomplishment of the service bulletin, this AD does not require that action.

Alternative Methods of Compliance (AMOCs)

(i)(1) The Manager, Seattle Aircraft Certification Office (ACO), FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Material Incorporated by Reference

(j) You must use the service information in Table 2 of this AD to perform the actions that are required by this AD, unless the AD specifies otherwise. The Director of the Federal Register approved the incorporation by reference of these documents in accordance with 5 U.S.C. 552(a) and 1 CFR part 51. Contact Boeing Commercial Airplanes, P.O. Box 3707, Seattle, Washington 98124-2207, for a copy of this service information. You may review copies at the Docket Management Facility, U.S. Department of Transportation, 400 Seventh Street, SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Table 2.—Material Incorporated by Reference
Boeing Alert Service Bulletin | Revision level | Date
757-27A0146 | Original | October 14, 2004.
757-27A0147 | Original | October 14, 2004.
757-57A0058 | 1 | January 10, 2002.

Issued in Renton, Washington, on October 31, 2006.
Kalene C. Yanamura,
Acting Manager, Transport Airplane Directorate, Aircraft Certification Service.

[FR Doc. E6-19164 Filed 11-15-06; 8:45 am]

BILLING CODE 4910-13-P